SMALL BUSINESS ADMINISTRATION

[License No. 09/79-0453]

Telegraph Hill Partners SBIC, L.P.; Notice Seeking Exemption Under Section 312 of the Small Business Investment Act, Conflicts of Interest

Notice is hereby given that Telegraph Hill Partners SBIC, L.P., 360 Post Street, Suite 601, San Francisco, CA 94108, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Telegraph Hill Partners SBIC, L.P. proposes to provide equity/debt security financing to LDR Holding Corporation, 4030 W. Braker Lane, Suite 360, Austin, TX 78759. The financing is contemplated for working capital and growth purposes.

The financing is brought within the purview of § 107.730(a)(1) of the Regulations because Telegraph Hill Partners II, L.P., THP II Affiliates Fund, L.P., THP Affiliates Fund, L.P., all Associates of Telegraph Hill Partners SBIC, L.P., in the aggregate own more than ten percent of LDR Holding Corporation, and therefore LDR Holding Corporation is considered an Associate of Telegraph Hill Partners SBIC as described in 13 CFR 107.50.

Therefore, this transaction is considered a financing of an Associate requiring an exemption. Notice is hereby given that any interested person may submit written comments on the transaction within fifteen days of the date of this publication to the Associate Administrator for Investment, U.S. Small Business Administration, 409 Third Street, SW., Washington, DC 20416.

Dated: August 12, 2008.
A. Joseph Shepard,
Associate Administrator for Investment.

[FR Doc. E8-20458 Filed 9-3-08; 8:45 am]

BILLING CODE 8025-01-P